DEPARTMENT OF LABOR

Employment and Training Administration

[TA-W-52,526]

Halliburton Energy Services, Anchorage, AK; Notice of Termination of Investigation

Pursuant to section 221 of the Trade Act of 1974, an investigation was initiated on August 12, 2003, in response to a worker petition filed by a company official on behalf of workers at Halliburton Energy Services, Anchorage, Alaska.

The petitioners have requested that the petition be withdrawn. Consequently, the investigation has been terminated.

Signed in Washington, DC this 4th day of September, 2003.
Richard Church,
Certifying Officer, Division of Trade Adjustment Assistance.

[FR Doc. 03-29367 Filed 11-24-03; 8:45 am]

BILLING CODE 4510-30-P